DEPARTMENT OF HOUSING AND URBAN DEVELOPMENT

[Docket No. FR-4982-C-02]

Notice of Funding Availability for Revitalization of Severely Distressed Public Housing; HOPE VI Revitalization Grants; Fiscal Year 2005; Correction

AGENCY: Office of the Assistant Secretary for Public and Indian Housing, HUD.

ACTION: Notice of funding availability; correction.

SUMMARY: On March 31, 2005, HUD published the Notice of Funding Availability (NOFA) for Revitalization of Severely Distressed Public Housing HOPE VI Revitalization Grants for Fiscal Year 2005. This notice announces several corrections to the NOFA.

DATES: The application submission date is extended to July 29, 2005.

FOR FURTHER INFORMATION CONTACT: Lar Gnessin, Office of Public Housing Investments, Office of Public and Indian Housing, Department of Housing and Urban Development, 451 Seventh Street, SW., Washington, DC 20410-5000; telephone (202) 708-0614 extension 2676 (this is not a toll-free number). Hearing- or speech-impaired individuals may access this number via TTY by calling the toll-free Federal Information Relay Service at (800) 877-8339.

SUPPLEMENTARY INFORMATION: On March 31, 2005, HUD published (70 FR 16554) the Notice of Funding Availability (NOFA) for Revitalization of Severely Distressed Public Housing HOPE VI Revitalization Grants for Fiscal Year 2005 announcing the availability of approximately $110 million in FY2005 funds for HOPE VI Revitalization Program grants, plus approximately $25 million additional for grantees' first-year, grant-related housing choice voucher (HCV) assistance. This notice announces corrections to the NOFA.

Summary of Technical Corrections

On page 16554, Overview Information, paragraph F, is updated with an extension of the application submission deadline. The new application submission deadline is July 29, 2005.

On page 16558, in section III.C.1.k, HUD is revising a cross-reference to advise applicants that section IV.B.6.f of this NOFA contains documentation requirements. Also on page 16558, HUD is revising section III.C.2.a to include expanded information about false statements and the related documentation requirements.

On page 16559, in sections III.C.2.b.(2), III.C.2.c.(4), and III.C.3.a.(2), HUD is clarifying three cross-references that should help applicants find important documentation information.

On page 16568, HUD is revising paragraph IV.A.3. to clarify that the information applicants need for their applications is available on the Internet at http://www.grants.gov. Additional information that are not included in the Grants.gov application package will be available on the Internet at http://www.hud.gov/offices/adm/grants/otherhud.cfm, and http://www.hud.gov/offices/pih/programs/ph/hope6/grants/fy05/index.cfm.

On page 16568, HUD is revising paragraph IV.B.1.a. by adding additional information. The new information explains that registration of the AOR at Grants.gov may take more than two weeks. If the AOR is not registered by the application submission date, applicants will not be able to submit applications to Grants.gov in a timely manner. Late applications are not considered for funding.

On page 16571, in the milestone table and related text in section IV.B.4.d, HUD is revising the dates to better reflect anticipated grant execution and other submission dates. In addition, on page 16571 and 16572, section IV.B.5 is being revised and a new section IV.B.6 is added to better explain the curable and non-curable applicant and third party certification thresholds documentation. Sections that follow this revised section IV.B.5 and IV.B.6 will be renumbered accordingly.

On page 16572, in section IV.B.7.a, HUD is revising the documentation instructions to state that HUD will also obtain information internally on applicant scores for the Regular Maintenance defect rate. Section IV.B.7.b.(2), also on page 16572, is being revised to correct a cross-reference to information about the subjects and items that should be included in the Rating Factor narrative.

On page 16572, paragraphs IV.B.7.b.(3)(a), IV.B.7.b.(3)(b)(i) and IV.B.7.b.(3)(b)(ii) and on page 16583, paragraph V.A.2.c.(1) are all revised to indicate that certification of obligation rate of Capital Funds include the fiscal years 2000-2004.

On page 16573, in section IV.B.7.j, HUD is clarifying that applicants should include supporting references or documentation for affirmative statements as requested on the form HUD-27300 and that additional information is available in the SuperNOFA General Section.

On page 16574, HUD is adding guidance to applicants in a revised and renumbered section IV.B.9, entitled, “Further Documentation Guidance on Narrative Exhibits and Specific Attachments”

On page 16575, in section IV.B.9.l.(1), is being revised to correct a cross-reference to information about the Excel workbook that will assist applicants in determining TDC limits required in Section IV.E.5.

On page 16576, in section IV.B.9.ll.(1), HUD is clarifying that applicants should fill in the information as requested on the form and refer to Section V.A.2.g of the General Section for more information.

On page 16576, paragraphs C.1.a. and C.2, HUD is extending the application submission date from June 29, 2005 to July 29, 2005. A similar change is being made on page 16577, paragraph C.3.b to reflect the revised submission date.

On page 16578, paragraph IV.F.2., HUD is adding a reminder to applicants that registration at Grants.gov may take more than two weeks.

On page 16580, a new paragraph VIV.F.8. will be added to provide guidance for first time Grants.gov users.

On page 16582, sections V.A.1.i.(1) through (3) are streamlined to provide information that is more concise and section V.A.1.i(4) is renumbered to V.A.1.i.(2).

For clarity and consistency, on page 16587, sections V.A.8.a.(4)(iv), (v) and (vi) are being renumbered to 4(d), (e), and (f). Also on page 16587, in order to alleviate confusion, sections V.A.8.a.(4)(b), (c), (d), (e), and (f), are amended to explain that the number of public housing units will be the number of existing public housing units.

Accordingly, the Notice of Funding Availability for Revitalization of Severely Distressed Public Housing HOPE VI Revitalization Grants for Fiscal Year 2005, published in the Federal Register on March 31, 2005 (70 FR 16554) is corrected as follows:

1. On page 16554, first column, Overview Information, paragraph F.1, is revised to read as follows: F. Dates. 1. Application Submission Date: The application submission date shall be July 29, 2005. See the General Section for application submission and timely receipt requirements.

2. On page 16558, in the middle column, revise paragraph III.C.1.k to read as follows:

k. Severe Distress of Targeted Project. The targeted public housing project must be severely distressed. See Section I.C. of this NOFA for the definition of “severely distressed.” If the targeted project is not severely distressed, your application will not be considered for funding. See Section IV.B.6.a of this NOFA for documentation requirements.

3. On page 16558, in the last column, revise paragraph III.C.2.a to read as follows:

a. False Statements. A false statement (or certification) in an application is grounds for denial or termination of an award and grounds for possible punishment as provided in 18 U.S.C. 1001, 1010, and 1012, and 32 U.S.C. 3729 and 3802. See Section IV.B of this NOFA for any documentation requirements related to these certifications.

4. On page 16559, in the first column, revise paragraph III.C.2.b.(2) to read as follows:

(2) See Section IV.B.6.b of this NOFA for documentation requirements.

5. On page 16559, in the middle column, revise paragraph III.C.2.c.(4) to read as follows:

(4) Standard Certifications. The last part of your application will be comprised of standard certifications common to many HUD programs. Required forms must be included in the HOPE VI application and will be available over the Internet at http://www.hud.gov/offices/adm/grants/fundsavail.cfm. See Section IV.B.5.f of this NOFA for documentation requirements.

6. On page 16559, in the middle column, revise paragraph III.C.3.a.(2) to read as follows:

(2) Severely Distressed Certification. Your application must include a certification that the targeted project is severely distressed. See Section IV.B.6.a of this NOFA for documentation requirements.

7. On page 16568, in the middle column, revise paragraph IV.A.3. to read as follows:

3. Application Kits and Materials. There are no application kits for our programs this year. All the information you need to apply will be in the NOFA. The application package will be available on the Internet at http://www.grants.gov. Suggested formats that are not included in the Grants.gov application package will be available on the Internet at http://www.hud.gov/offices/adm/grants/otherhud.cfm, and http://www.hud.gov/offices/pih/programs/ph/hope6/grants/fy05/index.cfm.

8. On page 16568, in the last column, revise paragraph IV.B.1.a. by adding the following to the end of the paragraph: “Currently, registration of the AOR at grants.gov may take more than two (2) weeks. If the AOR is not registered by the application submission date, you will not be able to submit your application to grants.gov in a timely manner. Late applications are not considered for funding.”

9. On page 16571, section IV.B.4.d, the table, entitled “Milestone,” and the paragraph immediately following the table is revised to read as follows:

Milestone | Date
Grant Award | Sept. 27, 2005.
Grant Agreement Execution | Dec. 1, 2005.
HUD's written request for Supplemental Submissions | Jan. 15, 2006.
HUD's approval of Supplemental Submissions | Feb. 15, 2006.

If grant award takes place after September 27, 2005, the grantee's program schedule may be changed in the supplemental submissions to account for the period of time between September 27, 2005, and the actual date of grant award.

10. On page 16571, in the middle column, revise paragraph IV.B.5 and add a new paragraph IV.B.6 to read as follows:

5. Curable Applicant and Third Party Certification Thresholds Documentation. Omission of, or incorrect/improper signature on, any of the following documents is considered a technical deficiency and must be cured (corrected) within the cure period stated in Section V.B of the General Section. Applications that remain deficient after the cure period will not be considered for funding.

a. Market-rate Housing: Market Assessment Letter. (1) If you include market-rate housing, community facilities (if market-driven, a community facility that is primarily intended to facilitate the delivery of community and supportive services for residents of the targeted severely distressed public housing project and of off-site replacement housing does not need to be addressed in the market assessment letter, e.g., a YMCA), economic development and retail structures in your Revitalization plan, you must demonstrate that there is a demand for these market-rate housing units, community facilities, economic development and retail structures of the type, number, and size proposed in the location you have chosen.

(2) In your application you must provide a preliminary market assessment letter prepared by an independent, third party, credentialed market research firm, or professional that describes its assessment of the demand and associated pricing structure for the proposed residential units and any community facilities, economic development, and retail structures, based on the market and economic conditions of the project area.

(3) If, after the cure period, this letter is not included in your application, the application will not be considered for funding.

b. HOPE VI Revitalization Applicant Certifications. The Chairman of your Board of Commissioners must certify to the requirements listed in the HOPE VI Revitalization Applicant Certifications. A suggested format for this certification is provided on the Internet at http://www.hud.gov/offices/adm/grants/fundsavail.cfm.

c. Operation and Management Principles and Policies Certification. You must certify that you will implement the Operation and Management Principles and Policies stated in Section III.C of this NOFA. The certification should reference 24 CFR part 966 and should outline the requirements in Section III.C.4.i. If, after the deficiency cure period, this certification is not properly included in your application, the application will not be considered for funding.

d. Relocation Plan Certification. You must certify that the HOPE VI Relocation plan has been completed and that it conforms to the URA requirements, and that it implements the goals stated in V.A.6 of this NOFA.

(a) You must certify that the HOPE VI Relocation Plan has been completed and:

(i) That it conforms to the Uniform Relocation Assistance and Real Property Acquisition Policies Act of 1970 (URA) requirements as described in Sections III.C.4 of this NOFA; and

(ii) That it implements HOPE VI relocation goals, as described in Section V.A.6 of this NOFA.

(b) If relocation was completed (i.e., the targeted public housing site is vacant) as of the application submission date, rather than certifying that the HOPE VI Relocation Plan has been completed, you must certify that the relocation was completed in accordance with URA requirements.

(c) If, after the deficiency cure period, this certification is not properly included in your application, the application will not be considered for funding.

e. Resident Involvement in the Revitalization Program Certification. You must submit a signed certification that resident training sessions and public meetings were held and that you involved affected public housing residents at the beginning and during the planning process for the revitalization program, prior to submission of an application. The certification must state that listed topics, as described in Section III.C.4 of this NOFA, were covered, that one of the meetings took place at the beginning of the revitalization planning process, and that two of the meetings and one training session took place after the publication date of this NOFA in the Federal Register. The certification must include the dates of the training session and meetings. The certification must show that each of the public meetings and resident training took place on different days. If, after the deficiency cure period, this certification is not properly included in your application, the application will not be considered for funding.

f. Standard Forms and Certifications. (1) The last part of your application will be comprised of standard certifications common to many HUD programs. Required forms are included in the HOPE VI Application and will be available electronically on the grants.gov website.

(2) For applicants who are granted a waiver to the electronic application process, these forms must be placed at the back of the application, except for the Application for Federal Assistance (SF-424) and the Acknowledgment of Application Receipt (HUD-2993). These two forms must be the first two pages of your application.

g. TDC and Extraordinary Site Costs Certification. (1) An Extraordinary Site Costs Certification must be included in your application if such costs are included in the calculations you used to determine your requested award amount. If this certification is not included in the application on or before the end of the deficient application cure period, extraordinary site costs will not be allowed in the award amount.

(2) The certification must be signed by a licensed engineer or architect who is not an employee of the housing authority or the city. The certification must include an engineer's or architect's license number and state of registration.

6. Non-Curable Applicant and Third Party Certification Thresholds Documentation. The following threshold certifications are non-curable. If any of the following documents are omitted from your application, or are incorrectly/improperly executed, your application will not be considered for funding.

a. Severely Distressed Certification. You must certify that the target project is severely distressed. See Section I.C of this NOFA for the definition of “severely distressed.” In order to certify to severe physical distress, your application must include a certification that is signed by an engineer or architect licensed by a state licensing board. The license does not need to have been issued in the same state as the severely distressed project. The engineer or architect must include his or her license number and state of registration on the certification. The engineer or architect may not be an employee of the housing authority or the city. A format for a Certification of Severe Physical Distress is provided on the Internet at http://www.grants.gov.

b. Selection of Developer. In order to be eligible for funding, you must provide a signed certification that:

(1) You have initiated an RFQ by the required application submission date for the competitive procurement of a developer for your first phase of construction. It is not necessary to have executed a Master Development Agreement with the selected developer in order to meet the threshold; or,

(2) You will act as your own developer for the proposed project.

c. Cost Control Standards Certification. You must include a certification by an independent cost estimator, architect, engineer, contractor, or other qualified third party professional that your cost estimates meet the standards of Section IV.E of this NOFA. The certifier cannot work for you.

11. On page 16572, in the middle column, renumber the paragraph currently numbered IV.B.6, and entitled, “6. Rating Factor Documentation,” to read, “7. Rating Factor Documentation.”

12. On page 16572, in the middle column, revise paragraph IV.B.7.a to read as follows:

a. Documentation for Capacity. See Section V.A.1 of this NOFA for documentation requirements. Include information on capacity in Exhibits B and E. HUD will obtain information on Capital Fund Program availability internally. However, you must include information from your PHA (or MTW) Plan on Capital Fund Program funds that are planned for other uses. HUD will also obtain information on your scores for the Public Housing Assessment System (PHAS), Regular Maintenance defect rate, and Section 8 Management Assessment Program (SEMAP) internally.

13. On page 16572, in the middle column, revise section IV.B.7.b.(2) to read as follows:

(2) See Sections V.A.2 and IV.B.9.c of this NOFA for the subjects and items that you should include in your Rating Factor narrative.

14. On page 16572, in the middle column, paragraphs IV.B.7.b.(3)(a), IV.B.7.b.(3)(b)(i) and IV.B.7.b.(3)(b)(ii) are revised by removing “FY 2000-2005 Capital Funds” are adding in its place “FY 2000-2004 Capital Funds.”

15. On page 16573, in the third column, revise paragraph 7.j. to read as follows:

j. Documentation for Incentive Criteria on Regulatory Barrier Removal. You must include the completed form HUD'27300 in your application along with supporting references or documentation for affirmative statements as requested on the form. See Section V.A.2.g of the General Section for more information on this factor. You must answer the questions in either Part A or Part B of the form, but not both.

16. On page 16573, in the third column, renumber the paragraph currently numbered IV.B.6 and entitled, “6. Housing Choice Voucher (HCV) Assistance” to read, “8. Housing Choice Voucher (HCV) Assistance.”

17. On page 16574, in the first column, renumber and revise the paragraph currently numbered, IV.B.7 and entitled, “7. Further Documentation Guidance on Narrative Exhibits and Specific Attachments” to read as follows:

9. Further Documentation Guidance on Narrative Exhibits and Specific Attachments.

a. Exhibit A. Verify that you have included information relating to the following:

(1) Executive Summary. Provide an Executive Summary, not to exceed three pages. Describe your Revitalization Plan, as clearly and thoroughly as possible. Do not argue for the need for the HOPE VI grant, but explain what you would do if you received a grant. Briefly describe why the targeted project is severely distressed, provide the number of units, and indicate how many of the units are occupied. Describe specific plans for the revitalization of the site. Include income mix, basic features (such as restoration of streets), and any mixed use or non-housing components. If you are proposing off site replacement housing, provide the number and type of units and describe the off site locations. Describe any homeownership components included in your Plan, including numbers of units. Briefly summarize your plans for community and supportive services. State the amount of HOPE VI funds you are requesting, and list the other major funding sources you will use for your mixed-finance development. Identify whether you have procured a developer or whether you will act as your own developer.

(2) Physical Plan. Describe your planned physical revitalization activities:

(a) Rehabilitation of severely distressed public housing units in accordance with Sections I(D)(4) and III(C)(4) of the NOFA;

(b) Development of public housing replacement rental housing, both on-site and off-site in accordance with Sections I(D)(5) and III(C)(4)(b) of the NOFA;

(c) Indicate whether you plan to use PATH technologies and Energy Star in the construction of replacement housing in accordance with Section III(C)(4)(f) of the NOFA;

(d) Market rate housing units (see Sections III(C)(1)(e) and III(C)(3)(b)(1) for threshold requirements).;

(e) Units to be financed with low-income housing tax credits;

(f) Replacement homeownership assistance for displaced public housing residents or other public housing-eligible low-income families, in accordance with Sections I(D)(6) and III(C)(4)(c) of the NOFA. Also describe any market-rate homeownership units planned, sources and uses of funds. Describe the relationship between the HOPE VI activities and costs and the development of homeownership units, both public housing and market rate. If you are selected for funding, you will be required to submit a Homeownership Proposal (homeownership term sheet);

(g) Rehabilitation or new construction of community facilities primarily intended to facilitate the delivery of community and supportive services for residents of the targeted development and residents of off-site replacement housing, in accordance with Sections I(D)(7) and III(C)(4)(d). Describe the type and amount of such space and how the facilities will be used in CSS program delivery or other activities;

(h) Land acquisition, and infrastructure and site improvements. Note that HOPE VI grant funds may not be used to pay hard development costs or to buy equipment for retail or commercial facilities;

(3) Hazard Reduction. Review Sections I(D), III(C)(4), and IV(E) of the NOFA. For units to be rehabilitated or demolished, describe the extent of any required abatement of environmentally hazardous materials such as asbestos.

(4) Demolition. Review Sections I(D)(2) and III(C)(4)(a) of the NOFA. Describe your plans for demolition, including the buildings (dwelling and non-dwelling units) proposed to be demolished, the purpose of the demolition, and the use of the site after demolition. If the proposed demolition was previously approved as a Section 18 demolition application, state the date the Section 18 demolition application was submitted to HUD and the date it was approved by HUD. Indicate whether you plan to implement the concept of Deconstruction, as described in Section III(C)(4)(g)(2) of the NOFA.

(5) Disposition. Review Sections I(D)(3) and III(C)(4) of the NOFA. Describe the extent of any planned disposition of any portion of the site. Cite the number of units or acreage to be disposed, the method of disposition (sale, lease, trade), and the status of any disposition application made to HUD.

(6) Site Improvements. Review Sections I(D), III(C)(4), and IV(E) of the NOFA. Describe any proposed on-site improvements, including infrastructure requirements, changes in streets, etc. Describe all public improvements needed to ensure the viability of the proposed project with a narrative description of the sources of funds available to carry out such improvements.

(7) Site Conditions. Review Sections I(D), III(C)(4), and IV(E) of the NOFA. Describe the conditions of the site to be used for replacement housing. Listing all potential contamination or danger sources (e.g. smells, fire heat, explosion and noise) that might be hazardous or cause discomfort to residents, PHA personnel, or construction workers. List potential danger sources, including commercial and industrial facilities, brownfields and other sites with potentially contaminated soil, commercial airports and military airfields. Note any facilities and/or activities within one mile of the proposed site.

(8) Separability. Section III(C)(1)(j) of the NOFA. If applicable, address the separability of the revitalized building(s) within the targeted project.

(9) Proximity. If applicable, describe how two contiguous projects meet the requirement of Section III(C)(1)(c)(1) of the NOFA, or how scattered sites meet the requirements of Section III(C)(1)(c)(2) of the NOFA,

b. Exhibit B. Verify that you have included information relating to the following:

(1) PHAS, Maintenance, and SEMAP. Respond to the PHAS Rating Factors V(A)(1)(h), V(A)(1)(i), and V(A)(1)(j) of the NOFA. See Section IV(B) for documentation requirements.

(2) Development Capacity of Developer. Respond to Rating Factor V(A)(1)(b) of the NOFA. See Section IV(B) for documentation requirements.

(3) Development Capacity of Applicant. Respond to Rating Factor V(A)(1)(c) of the NOFA. See Section IV(B) for documentation requirements.

(4) Capacity of Existing HOPE VI Revitalization Grantees. Respond to Rating Factor V(A)(1)(d) of the NOFA. This rating factor applies only to PHAs with existing HOPE VI Revitalization grants from fiscal years 1993-2002. Production achievement numbers will be taken from the HOPE VI Quarterly Progress Reports for the quarter ending December 31, 2004. See Section IV(B) for documentation requirements.

(5) CSS Program Capacity. Respond to Rating Factor V(A)(1)(e) of the NOFA. See Section IV(B) for documentation requirements.

(6) Property Management Capacity. Respond to Rating Factor V(A)(1)(f) of the NOFA. See Section IV(B) for documentation requirements.

(7) PHA or MTW Plan. Respond to Rating Factor V(A)(1)(g) of the NOFA. See Section IV(B) for documentation requirements.

c. Exhibit C. Verify that you have included information relating to the following:

(1) Need for Revitalization: Severe Physical Distress of the Public Housing Site. Respond to Rating Factor V(A)(2)(a) of the NOFA. See Section IV(B) for documentation requirements.

(2) Need for Revitalization: Impact of the Severely Distressed Site on the Surrounding Neighborhood. Respond to Rating Factor V(A)(2)(b) of the NOFA. See Section IV(B) for documentation requirements.

(3) Need for HOPE VI Funding (Obligation of Capital Funds). Respond to Rating Factor V(A)(2)(c) of the NOFA. If you are a Moving to Work participant and are not required to enter obligations into LOCCS, provide a certification of your obligation rate of your FY 2000-2004 Capital Funds. If you are not a participant in MTW, you must provide information on your Capital Funds. The portion of the PHA Plan that lists the planned uses of your FY 2000-2004 Capital Funds should be included in the application (Attachment 37). See Section IV(B) for other documentation requirements.

(4) Previously-Funded Sites. Respond to Section III(C)(1)(h) of the NOFA. See Section IV(B) for documentation requirements.

(5) Need for Affordable, Accessible Housing in the Community. Respond to Rating Factor V(A)(2)(d) of the NOFA. See Section IV(B) for documentation requirements.

d. Exhibit D. Verify that you have included information relating to the following:

(1) Resident and Community Involvement. Discuss your communications about your development plan and HUD communications with residents, community members, and other interested parties. Include the resident training attachment. Respond to Rating Factor V(A)(4) of the NOFA. See Section IV(B) for documentation requirements.

e. Exhibit E. Respond to Section V(A)(5) of the NOFA. See Section IV(B) for documentation requirements. Verify that you have included information relating to the following. Endowment Trust. If you plan to place CSS funds in an Endowment Trust, review Section III(C)(4)(k) and Section V(A)(5), and state the dollar amount and percentage of the entire grant that you plan to place in the Trust. Case Management and Needs Identification;

(1) Transition to Housing Self-Sufficiency and Housing Self-Sufficiency Time Frame

(2) Partner Commitments

(3) Quality and Results Orientation.

f. Exhibit F. Verify that you have included information relating to the following:

(1) Housing Choice Voucher Needs. Review Section III(C)(4)(n) and V(A)(6) of the NOFA. State the number of Housing Choice Vouchers that will be required for relocation if this HOPE VI application is approved, both in total and the number needed for FY 2005. Indicate the number of units and the bedroom breakout. As applicable, include a Housing Choice Voucher application to the application. See Section IV(B) for documentation requirements.

(2) Relocation Plan. Review Sections III(C)(2)(c)(2) and III(C)(4)(o) of the NOFA and respond to Rating Factor V(A)(6). For additional guidance on developing a relocation plan, refer to CPD Notice 04-02 (“Guidance on the Application of the Uniform Relocation Assistance and Real Property Acquisition Policies Act of 1970 (URA), as amended, in HOPE VI Projects”). See Section IV(B) for documentation requirements.

g. Exhibit G. Verify that you have included information relating to the following:

(1) Accessibility. Respond to Rating Factor V(A)(7)(a)(1). See Section IV(B) for documentation requirements;

(2) Universal Design. Respond to Rating Factor V(A)(7)(a)(2). See Section IV(B) for documentation requirements;

(3) Fair Housing. Respond to Rating Factor V(A)(7)(b)(1). See Section IV(B) for documentation requirements; and

(4) Section 3. Respond to Rating Factor V(A)(7)(b)(2). See Section IV(B) for documentation requirements.

h. Exhibit H. Verify that you have included information relating to the following:

(1) Unit Mix and Need for Affordable Housing. Respond to Rating Factor V(A)(8)(a);

(2) Off-Site Housing. Respond to Rating Factor V(A)(8)(b); and

(3) Homeownership Housing. Respond to Rating Factor V(A)(8)(c).

i. Exhibit I. Verify that you have included information relating to the following:

(1) Appropriateness of Proposal. Respond to Section III(C)(1)(b). See Section IV(B) for documentation requirements.;

(2) Appropriateness and Feasibility of the Plan. Respond to Rating Factor V(A)(9)(b);

(3) Neighborhood Impact and Sustainability of the Plan. Respond to Rating Factor V(A)(9)(c);

(4) Design. Describe the features of your proposed design and respond to Rating Factor V(A)(9)(e);

(5) Energy Star. Respond to Rating Factor V(A)(9)(f); and

(6) Evaluation. Respond to Rating Factor V(A)(9)(g).

j. Attachments 1 through 7.

(1) These attachments are required in all applications. See the instructions for filling out the HOPE VI Application Data Forms, Appendix 1, at the end of this NOFA.

k. Attachment 8.

(1) This attachment is required in all applications. In addition to the instructions included in the HOPE VI Budget form, general guidance on preparing a HOPE VI budget can be found on the Grant Administration page of the HOPE VI Web site, http://www.hud.gov/offices/pih/programs/ph/hope6/.

l. Attachment 9.

(1) Form HUD-52799, “TDC/Grant Limitations Worksheet”. This attachment is required in all applications. The Excel workbook will assist you in determining your TDC limits required in Section IV.E.5.

m. Attachment 10.

(1) Extraordinary Site Costs Certification. This attachment is applicable only if you request funds to pay for extraordinary site costs, outside the TDC limits. See section IV.E. See Section IV(B) for documentation requirements.

n. Attachment 11.

(1) Cost Certification. This attachment is required in all applications. Provide a certification of cost estimates in accordance with Sections III(C)(3)(a)(1) and IV(E). This certification may be in the form of a letter. See Section IV(B) for documentation requirements.

o. Attachment 12.

(1) City Map. This attachment is required in all applications. Provide a to-scale city map that clearly identifies the following in the context of existing city streets, the central business district, other key city sites, and census tracts:

(a) The existing development;

(b) Replacement neighborhoods, if available;

(c) Off-site properties to be acquired, if any;

(d) The location of the Federally-designated Empowerment Zone or Enterprise Community (if applicable); and

(e) Other useful information to place the project in the context of the city, county, or municipality and other revitalization activity underway or planned.

(2) If you request funds for more than one project or for scattered site housing, the map must clearly show that the application meets the NOFA's site and unit requirements. If you have received a waiver to the electronic submission requirement, this map may be submitted on 8½″ by 14″ paper.

p. Attachment 13.

(1) This attachment is required in all applications, in accordance with Section III(C)(2)(a)(1). The Developer Certification may be in the form of a letter. See Section IV(B) for documentation requirements.

q. Attachment 14.

(1) Provide a certification that you and/or your selected Property Manager will implement the operation and management principles and policies identified in Section III(C)(2)(c)(1) (and Section III(C)(4)(i)). This certification may be in the form of a letter. See Section IV(B) for documentation requirements.

r. Attachment 15. Program Schedule. This attachment is required in all applications. Review Sections III(C)(1)(i) and VI(B)(2) and provide a program schedule accordingly. Your program schedule MUST contain all timeframe requirements listed in the NOFA. Further, the program schedule MUST indicate the date on which the development proposal for EACH phase of the revitalization plan will be submitted to HUD. See Section IV(B) for documentation requirements.

s. Attachment 16.

(1) Certification of Severe Physical Distress. This attachment is required in all applications. In accordance with Sections I(C)(4) and III(C)(3)(a)(2), an engineer or architect must complete Attachment 16. No backup documentation is required for this certification. See Section IV(B) for documentation requirements. No backup documentation is required for this certification.

t. Attachment 17.

(1) Photographs of the Severely Distressed Housing. This attachment is required in all applications. Review Rating Factor V(A)(2)(a). Submit photographs of the targeted severely distressed public housing that illustrate the extent of physical distress. See Section IV(B) for documentation requirements.

u. Attachment 18.

(1) Neighborhood Conditions. This attachment is required in all applications. Submit documentation described in Rating Factor V(A)(2)(b). Documentation may include crime statistics, photographs or renderings, socio-economic data, trends in property values, evidence of property deterioration and abandonment, evidence of underutilization of surrounding properties, and other indications of neighborhood distress and/or disinvestment. See Section IV(B) for documentation requirements.

v. Attachments 19 through 22.

(1) These attachments are included in form HUD 52797, “HOPE VI Revitalization Leverage Resources.” and are required in all applications.

(2) Physical Development Resources. In accordance with Rating Factor V(A)(3)(b), complete this Attachment 19, as provided in this application, by entering the dollar value of each resource that will be used for physical development. For each resource entered, you must submit backup documentation in Attachment 19. See Section IV(B) for documentation requirements.

(3) CSS Resources. In accordance with Rating Factor V(A)(3)(c), complete this Attachment 20, as provided in this Application, by entering the dollar value of all resources that will be used for CSS activities. For each resource entered, submit backup documentation in Attachment 20. See Section IV(B) for documentation requirements.

(4) Anticipatory Resources. Complete Attachment 21, as provided in this Application, by entering the dollar value of all anticipatory resources as described in Rating Factor V(A)(3)(d). For each resource entered, submit backup documentation in Attachment 21. See Section IV(B) for documentation requirements.

(5) Collateral Resources. Complete Attachment 22, as provided in this Application, by entering the dollar value of all collateral resources as described in Rating Factor V(A)(3)(e). For each resource entered, submit backup documentation behind Attachment 22. See Section IV(B) for documentation requirements.

w. Attachment 23.

(1) Form HUD-52785, “Resident Training and Public Meeting Certification.” Review Section III(C)(2)(c)(3) and complete Attachment 23. See Section III(C)(4)(k) for Resident and Community Involvement requirements. See Section IV(B) for documentation requirements. This form is available from Grants.gov.

x. Attachment 24.

(1) Commitments with CSS Providers. In accordance with Section V(A)(5)(f), provide letters from CSS providers that have made commitments to participate in your CSS activities if you are awarded a HOPE VI Revitalization grant under the NOFA. See Section IV(B) for documentation requirements.

y. Attachment 25.

(1) HOPE VI Revitalization Relocation Plan Certification. In accordance with Sections III(C)(2)(c)(2) and III(C)(4)(o), submit a certification that you have completed a HOPE VI Relocation Plan in conformance with the URA. This certification may be in the form of a letter. Refer to CPD Notice 04-02 for additional guidance, including a template.

z. Attachment 26.

(1) Completed Relocation Certification. If you have completed your relocation on or before the application submission date, include this attachment, in accordance with Sections III(C)(2)(c)(2) and III(C)(4)(o). This certification may be in the form of a letter.

aa. Attachment 27.

(1) Documentation of Site Control for Off-Site Public Housing. This is applicable if your plan includes off-site housing or other development. If applicable, provide evidence of site control for rental replacement units or land, in accordance with Section III(C)(l). See Section IV(B) for documentation requirements.

bb. Attachment 28.

(1) Documentation of Environmental, and Site & Neighborhood Standards. This is applicable if your plan includes off-site housing or other off-site development. Provide a certification that the site(s) acquired for off-site public housing meet environmental and site and neighborhood standards, as provided in Section V(A)(8)(b)(2). This certification may be in the form of a letter. See Section IV(B) for documentation requirements.

cc. Attachment 29.

(1) Preliminary Market Assessment Letter. This is applicable if you include market rate housing in your application, in accordance with Section III(C)(3)(b)(1). See Section IV(B) for documentation requirements.

dd. Attachment 30.

(1) Certification of Zoning Approval or Documentation. This is applicable if your application includes off-site housing or other development, in accordance with Section III(C)(1)(m). See Section IV(B) for documentation requirements. This attachment may be a certification or backup documentation.

ee. Attachment 31.

(1) Form HUD-52787, “HOPE VI Revitalization Project Readiness Certification”. This attachment is required in all applications. Complete Attachment 31 by indicating which of the items in Rating Factor V(A)(9)(d) of the NOFA have been completed. See Section IV(B) for documentation requirements.

ff. Attachment 32.

(1) Current Site Plan. This attachment is required in all applications. The Site Plan shows the targeted public housing site's various buildings and identifies which buildings are to be rehabilitated, demolished, or disposed of. Demolished buildings should be shown and labeled as such.

gg. Attachment 33.

(1) Photographs of Architecture in the Surrounding Community. This attachment is required in all applications. Provide photographs to demonstrate that your plan conforms to the Design requirements of Rating Factor V(A)(9)(e) of the NOFA (pg. 64163). See Section IV(B) for documentation requirements.

hh. Attachment 34.

(1) Conceptual Site Plan. This attachment is required in all applications. The Conceptual Site Plan indicates where your plan's proposed construction and rehabilitation activities will take place and any planned acquisition of adjacent property and/or buildings. Review Section V(A)(9)(e). See Section IV(B) for documentation requirements.

ii. Attachment 35.

(1) Conceptual Building Elevations. This attachment is required in all applications. Review Section V(A)(9)(e). Include building elevation drawings for the various types of your proposed housing. See Section IV(B) for documentation requirements.

jj. Attachment 36.

(1) Evaluation Commitment Letter(s). This attachment is required in all applications. Review Section V(A)(9)(g) and provide the requested commitment letter(s) that addresses the indicated evaluation areas.

kk. Attachment 37.

(1) Portions of the PHA or MTW Plan. This attachment is required, and should be included in all applications. The portion of the PHA Plan that you include should support your narrative in Exhibit B and cover planned uses of Capital Fund Program funding and inclusion of the targeted project's revitalization. Review Rating Factor V(A)(2)(c) and the documentation requirements at IV(B)(6)(b).

ll. Attachment 38.

(1) Form HUD-96010, “Logic Model,” This attachment is required in all applications. This form is available from Grants.gov. Fill in the information as requested on the form. See Section V.A.2.g of the General Section for more information on this form (See Section VI.C.2. for post award reporting instructions.)

mm. Attachment 39.

(1) Form HUD-27300, “America's Affordable Communities Initiative.” This attachment is required in all applications. This form is available from Grants.gov.

nn. Attachment 40.

(1) HOPE VI Revitalization Applicant Certification. This attachment is required in all applications. This form is available from Grants.gov.

(2) Note that these certifications (4 page document) must be signed by the Chairman of the Board of the PHA, NOT the Executive Director.

oo. Attachment 41. Standard Forms and Certifications. These documents include:

(a) Disclosure of Lobbying Activities (SF-LLL), as applicable.

(b) Form HUD-2880, “Applicant/Recipient Disclosure/Update Report.” This form is available from Grants.gov.

Form HUD-52515, “Funding Application, Section 8 Tenant-Based Assistance, Rental Certificate Program, Rental Voucher Program.” This form is available from Grants.gov. It is applicable only if you are requesting Housing Choice Vouchers that are related to your proposed plan.

18. On page 16576, second column, paragraphs C.1.a. and C.2 are revised by removing the date June 29, 2005 and adding in its place the date, July 29, 2005.

19. On page 16577, first column, paragraph C.3.b is revised by removing the date June 29, 2005 and adding in its place the date, July 29, 2005.

20. On page 16578, in the third column, revise paragraph IV.F.2. by adding the following to the end of the paragraph: “Currently, registration at Grants.gov may take more than two (2) weeks. If you are not registered by the application submission date, you will not be able to submit your application to Grants.gov in a timely manner. Late applications are not considered for funding.”

21. On page 16580, in the middle column, add a new paragraph IV.F.8. to read as follows:

8. Guidance for First Time Grants.gov Users. The PureEdge Grant Application Package on Grants.gov will prohibit application submittal if any “Mandatory Documents” are not completed. Even if you will not use the “HUD Facsimile Transmittal,” it must be completed and moved to the “Mandatory Completed Documents for Submission” block of the Package. If you do not intend to use this fax cover sheet, in completing the form, for #6 choose “other” and for #7 enter “0” (zero).

22. On page 16582, in the first column, remove paragraphs V.A.1.i.(1) through (3) and replace with the following:

(1) Through PHAS, HUD measures the prevalence of items that need to be fixed (defects) in PHAs' public housing developments. PHAs receive a report entitled “Comparison of the Top 20 Observed Defects (Projected).” HUD conducts analyses related to this report. In these analyses, HUD separates the regular maintenance projected defects from the total projected defects (other categories of defects include capital and life threatening/exigent health and safety), applies them across all units in the PHA's inventory and develops a rate of defects per unit. HUD will compare the PHA's most recent PHAS projected number of regular maintenance defects per unit and compare it to the previous projected number of regular maintenance defects per unit. (a) You will receive 2 points if your projected number of regular maintenance defects per unit has improved. (b) You will receive 0 points if your projected number of regular maintenance defects per unit has not improved.”

23. On page 16582, in the middle column, renumber paragraph V.A.1.i.(4) to read i.(2).

24. On page 16583, in the first column, paragraph V.A.2.c.(1) is revised by removing “FY 2000-2005 Capital Fund” are adding in its place “FY 2000-2004 Capital Fund.”

25. On page 16587, in the middle column, renumber paragraphs V.A.8.a.(4)(iv), (v), and (vi) to 4(d), (e), and (f) and revise paragraphs (4)(b) through (4)(f) to read as follows:

(b) The percentages below are defined as the number of planned project-based affordable units divided by the number of existing public housing units that the targeted project contained on the application submission date;

(c) You will receive 3 Points if your application demonstrates that the number of project-based affordable units in your plan is 125 percent or more of the number of existing public housing units that the targeted project contained on the application submission date;

(d) You will receive 2 Points if your application demonstrates that the number of project-based affordable units in your plan is 110 to 124 percent of the number of existing public housing units that the targeted project contained on the application submission date

(e) You will receive 1 Point if your application demonstrates that the number of project-based affordable units in your plan is 100 to 109 percent of the number of existing public housing units that the targeted project contained on the application submission date.

(f) You will receive 0 Points if your application demonstrates that the number of project-based affordable units in your plan is less than the number of existing public housing units that the targeted project contained on the application submission date or if your application does not address this factor to an extent that makes HUD's rating of this factor possible.

Dated: May 25, 2005.
Milan Ozdinec,
Acting Deputy Assistant Secretary for Public Housing and Voucher Programs.

[FR Doc. 05-10857 Filed 5-31-05; 8:45 am]

BILLING CODE 4210-33-P